DEPARTMENT OF THE INTERIOR

Bureau of Land Management

[AK-910-09-1739-NSSI]

Call for Nominations: North Slope Science Initiative, Science Technical Advisory Panel, Alaska

AGENCY: Bureau of Land Management, Interior.

ACTION: Notice.

SUMMARY: This notice announces a call for nominations to serve on the North Slope Science Initiative, Science Technical Advisory Panel in accordance with the provisions of the Federal Advisory Committee Act (FACA) of 1972.

DATES: All nominations must be received no later than October 14, 2011.

FOR FURTHER INFORMATION CONTACT: John F. Payne, Ph.D, Executive Director, North Slope Science Initiative (AK-910), c/o Bureau of Land Management, Alaska State Office, 222 West 7th Avenue, #13, Anchorage, Alaska 99513, phone (907) 271-3431, or jpayne@blm.gov.

SUPPLEMENTARY INFORMATION: The purpose of the Science Technical Advisory Panel is to advise the North Slope Science Oversight Group on issues such as identifying and prioritizing inventory, monitoring and research needs, and providing other scientific information as requested by the Oversight Group. The Oversight Group consists of the Alaska Regional Directors of the U.S. Fish and Wildlife Service, National Park Service, Bureau of Ocean Energy, Management, Regulations, and Enforcement, and National Marine Fisheries Service; the Bureau of Land Management's Alaska State Director; the Commissioners of the Alaska Departments of Fish and Game and Natural Resources; the Mayor of the North Slope Borough; and the President of the Arctic Slope Regional Corporation. Advisory members of the Oversight Group are the Regional Executive of the U.S. Geological Survey, the Alaska Director of the U.S. Arctic Research Commission, and the Regional Directors of the National Weather Service and U.S. Department of Energy, National Energy Technology Laboratory.

The Science Technical Advisory Panel will consist of a representative group of not more than 15 scientists and technical experts from diverse professions and interests, including the oil and gas industry, subsistence users, Alaska Native entities, conservation organizations, and academia, as determined by the Secretary of the Interior. The members will be selected from among, but not limited to, the following disciplines: North Slope traditional and local knowledge, landscape ecology, petroleum engineering, civil engineering, geology, botany, hydrology, limnology, habitat biology, wildlife biology, biometrics, sociology, cultural anthropology, economics, ornithology, oceanography, fisheries biology, and climatology.

The duties of the Science Panel are solely advisory to the Oversight Group, which will give direction to the Science Technical Advisory Panel regarding priorities for decisions needed for the Department of the Interior's management. Duties could include the following:

a. Advise the Oversight Group on science planning and relevant research and monitoring projects;

b. Advise the Oversight Group on scientific information relevant to the Oversight Group's mission;

c. Review selected reports to advise the Oversight Group on their content and relevance;

d. Review ongoing scientific programs of North Slope Science Initiative (NSSI) member organizations on the North Slope at the request of the member organizations to promote compatibility in methodologies and compilation of data;

e. Advise the Oversight Group on how to ensure that scientific products generated through NSSI activities are of the highest technical quality;

f. Periodically review the North Slope Science Plan and provide recommendations for changes to the Oversight Group;

g. Provide recommendations for proposed NSSI funded inventory, monitoring and research activities to the Oversight Group;

h. Provide other scientific advice as requested by the Oversight Group; and

i. Coordinate with groups and committees appointed or requested by the Oversight Group to provide science advice, as needed.

The Executive Director, North Slope Science Initiative will serve as the Designated Federal Officer of the Science Technical Advisory Panel.

Qualifications and Proceedures Required for Nomination

All membership will consist of professionals with advanced degrees and a minimum of 5 years of work experience in Alaska in their field of expertise, preferably in the North Slope region. Professionals will be selected from among those disciplines and entities described above. Any individual or organization may nominate one or more persons to serve on the Science Technical Advisory Panel. Members will be appointed for 3-year terms. At the discretion of the Secretary of the Interior, Science Technical Advisory Panel members may be reappointed. Under current Administration policy, federally registered lobbyists may not serve on the panel.

How To Nominate

Individuals may nominate themselves to the Science Technical Advisory Panel. You may obtain nomination forms from the Executive Director of the North Slope Science Initiative (see address above), or from http://www.northslope.org. To make a nomination, or self nominate, you must submit a completed nomination form with a letter of reference that describes the nominee's qualifications to serve on the Science Technical Advisory Panel. The professional discipline the nominee would like to represent should be identified in the letter of nomination and in the nomination form. Nominees may be scientists and technical experts from diverse professions and interests, including the oil and gas industry, subsistence users, Alaska Native entities, conservation organizations, and academia. Nominees selected to serve on the Science Technical Advisory Panel will serve only in their professional capacity and will not serve to represent any group, agency or entity with whom they may be affiliated.

The Executive Director will collect the nomination forms and letters of reference and distribute them to the Oversight Group of the NSSI. The Oversight Group will submit their recommendations through the Bureau of Land Management to the Secretary of the Interior who has the responsibility for making the appointments.

Members of the Science Technical Advisory Panel will serve without monetary compensation. Members will be reimbursed for travel and per diem expenses.

Certification

I hereby certify that the Science Technical Advisory Panel is necessary and in the public interest in connection with the Secretary of the Interior's responsibilities, and in compliance with Sections 348, Energy Policy Act of 2005 (Pub. L. 109-58).

Julia Dougan,
Acting State Director.

[FR Doc. 2011-23484 Filed 9-13-11; 8:45 am]

BILLING CODE 4310-JA-P